DEPARTMENT OF COMMERCE

International Trade Administration

A-449-804

Steel Concrete Reinforcing Bars from Latvia; Final Results of the Sunset Review of Antidumping Duty Order

AGENCY: Import Administration, International Trade Administration, Department of Commerce.

SUMMARY: On November 27, 2006, the Department of Commerce (“the Department”) published a notice of preliminary results of the full sunset review of the antidumping duty order on steel concrete reinforcing bars (“rebar”) from Latvia pursuant to section 751(c) of the Tariff Act of 1930, as amended (“the Act”). As a result of this review, the Department finds that revocation of the antidumping duty order would likely lead to the continuation or recurrence of dumping.

EFFECTIVE DATE: April 5, 2007.

FOR FURTHER INFORMATION CONTACT: Audrey R. Twyman or Brandon Farlander, AD/CVD Operations, Office 1, Import Administration, International Trade Administration, U.S. Department of Commerce, 14th Street & Constitution Avenue, NW, Washington, DC, 20230; telephone: 202-482-3534 and 202-482-0182, respectively.

SUPPLEMENTARY INFORMATION:

Background

On November 27, 2006, the Department published a notice of preliminary results of the full sunset review of the antidumping duty order on rebar from Latvia pursuant to section 751(c) of the Act. See Steel Concrete Reinforcing Bars from Latvia; Preliminary Results of the Sunset Review of Antidumping Duty Order, 71 FR 68544 (November 27, 2006) (“Preliminary Results”). We provided interested parties an opportunity to comment on our preliminary results. The Department received a case brief from Joint Stock Company Liepajas Metalurgs on January 16, 2007, and a rebuttal brief from the Rebar Trade Action Coalition and its individual producer members Nucor Corporation, CMC Steel Group, and Gerdau Ameristeel, as well as TAMCO Steel, and Cascade Steel Rolling Mills, Inc. on January 22, 2007. A hearing was not held because none was requested.

Scope of the Order

The product covered by this order is all steel concrete reinforcing bars sold in straight lengths, currently classifiable in the Harmonized Tariff Schedule of the United States (“HTSUS”) under item numbers 7214.20.00, 7228.30.8050, 7222.11.0050, 7222.30.0000, 7228.60.6000, 7228.20.1000, or any other tariff item number. Specifically excluded are plain rounds (i.e., non-deformed or smooth bars) and rebar that has been further processed through bending or coating.

HTSUS subheadings are provided for convenience and customs purposes. The written description of the scope of the order is dispositive.

Analysis of Comments Received

All issues raised in this sunset review are addressed in the “Issues and Decision Memorandum for the Sunset Review of the Antidumping Duty Order on Steel Concrete Reinforcing Bars from Latvia; Final Results,” to David M. Spooner, Assistant Secretary for Import Administration, dated March 29, 2007 (“Decision Memo”), which is hereby adopted by this notice. The issues discussed in the Decision Memo include the likelihood of continuation or recurrence of dumping and the magnitude of the margin likely to prevail if the antidumping duty order were revoked. Parties can find a complete discussion of all issues raised in this sunset review and the corresponding recommendations in this public memorandum, which is on file in room B-099 of the main Department building. In addition, a complete version of the Decision Memo can be accessed directly on the Web at http://ia.ita.doc.gov/frn/index.html. The paper copy and electronic version of the Decision Memo are identical in content.

Final Results of Review

The Department determines that revocation of the antidumping duty order on rebar from Latvia is likely to lead to a continuation or recurrence of dumping at the following weighted-average margins:

Manufacturers/Producers/Exporters | Weighted-Average Margin (Percentage)
Joint Stock Company Liepajas Metalurgs | 17.21
All Others | 17.21

This notice serves as a final reminder to parties subject to administrative protective order (“APO”) of their responsibility concerning the disposition of proprietary material disclosed under APO in accordance with 19 CFR 351.305. Timely notification of return/destruction of APO materials or conversion to judicial protective order is hereby requested. Failure to comply with the regulations and the terms of an APO is a sanctionable violation.

This sunset review and notice are in accordance with sections 751(c), 752, and 777(i)(1) of the Act.

Dated: March 29, 2007.
David M. Spooner,
Assistant Secretary for Import Administration.

[FR Doc. E7-6398 Filed 4-4-07; 8:45 am]

BILLING CODE 3510-DS-S